ENVIRONMENTAL PROTECTION AGENCY

40 CFR Part 52

[CA 238-0246b; FRL-6851-9]

Revisions to the California State Implementation Plan, South Coast Air Quality Management District, Bay Area Air Quality Management District

AGENCY: Environmental Protection Agency (EPA).

ACTION: Proposed rule.

SUMMARY: EPA is proposing to approve revisions to the South Coast Air Quality Management District (SCAQMD) and Bay Area Air Quality Management District (BAAQMD) portions of the California State Implementation Plan (SIP). These revisions concern volatile organic compound (VOC) emissions from graphic arts printing and coating operations. We are proposing to approve local rules to regulate these emission sources under the Clean Air Act as amended in 1990 (CAA or the Act).

DATES: Any comments on this proposal must arrive by October 13, 2000.

ADDRESSES: Mail comments to Andy Steckel, Rulemaking Office Chief (AIR-4), U.S. Environmental Protection Agency, Region IX, 75 Hawthorne Street, San Francisco, CA 94105-3901.

You can inspect copies of the submitted SIP revisions and EPA's technical support documents (TSDs) at our Region IX office during normal business hours. You may also see copies of the submitted SIP revisions at the following locations:

California Air Resources Board, Stationary Source Division, Rule Evaluation Section, 2020 “L” Street, Sacramento, CA 95812.

South Coast Air Quality Management District, 21865 E. Copley Dr. Diamond Bar, CA 91765-4182

Bay Area Air Quality Management District, 939 Ellis Street San Francisco, CA 94109-7799.

FOR FURTHER INFORMATION CONTACT: Max Fantillo, Rulemaking Office (Air-4), U.S. Environmental Protection Agency, Region IX, (415) 744-1183.

SUPPLEMENTARY INFORMATION: This proposal addresses the following local rules: SCAQMD 1130 and BAAQMD 8.20. In the Rules and Regulations section of this Federal Register, we are approving these local rules in a direct final action without prior proposal because we believe these SIP revisions are not controversial. If we receive adverse comments, however, we will publish a timely withdrawal of the direct final rule and address the comments in subsequent action based on this proposed rule. We do not plan to open a second comment period, so anyone interested in commenting should do so at this time. If we do not receive adverse comments, no further activity is planned. For further information, please see the direct final action.

Dated: July 20, 2000.
Felicia Marcus,
Regional Administrator, Region IX.

[FR Doc. 00-23373 Filed 9-12-00; 8:45 am]

BILLING CODE 6560-50-P